DEPARTMENT OF THE INTERIOR

Bureau of Indian Affairs

[DR.5B814.IA001213]

Revision of Agency Information Collection for Reporting Systems for Public Law 102-477 Demonstration Project

AGENCY: Bureau of Indian Affairs, Interior.

ACTION: Notice of request for comments and tribal consultation meeting.

SUMMARY: In compliance with the Paperwork Reduction Act of 1995, the Assistant Secretary—Indian Affairs is seeking comments on the revision of the collection of information for the Reporting System for Public Law 102-477 Demonstration Project authorized by OMB Control Number 1076-0135. This information collection expires January 31, 2017. See the SUPPLEMENTARY INFORMATION section of this notice for details on the tribal consultation session.

DATES: Submit comments on or before April 15, 2014. A tribal consultation session will be held on Thursday, March 16, 2014 from 1:00 to 5:00 p.m. at the Westin Washington City Center, 1400 M Street NW., Washington, DC 20005. See the SUPPLEMENTARY INFORMATION section of this notice for details on the tribal consultation session.

ADDRESSES: You may submit comments on the information collection to James West, Office of Indian Energy and Economic Development, Assistant Secretary—Indian Affairs, 1951 Constitution Avenue NW., MS-20 SIB, Washington, DC 20240; facsimile: (202) 208-4564; email: JimR.West@bia.gov. Copies of the draft forms can be viewed at: http://www.bia.gov/WhoWeAre/AS-IA/Consultation/index.htm. See the SUPPLEMENTARY INFORMATION section of this notice for information on the consultation session.

FOR FURTHER INFORMATION CONTACT: James West, (202) 208-6310.

SUPPLEMENTARY INFORMATION:

I. Abstract

The Assistant Secretary—Indian Affairs is seeking comments on the revisions for the information collection conducted under OMB Control Number 1076-0135, Reporting System for Public Law 102-477 Demonstration Project. This information allows funding agencies to document compliance with statutory, regulatory, and program specific requirements of the various integrated programs. Public Law 102-477 authorized tribal governments to integrate federally funded employment, training, and related services and programs tribes provide into a single, coordinated, comprehensive service delivery plan. Funding agencies include the Department of the Interior, Department of Labor, and the Department of Health and Human Services. Indian Affairs (IA) is statutorily required to serve as the lead agency and provides a single report format related to the approved plan for the individual project for use by tribal governments to report on integrated activities and expenditures. IA shares the information collected from these reports with the Department of Labor and the Department of Health and Human Services.

There were previously four information collections, three of which were collected on forms, associated with this OMB Control Number: IA 7701—Narrative Report, IA 7702—Statistical Report, IA 7703—Financial Report, and IA 7703A—Tribal Temporary Assistance for Needy Families (TANF) Financial Report. This revision reduces the number of forms to two: Narrative and Statistical Report and Financial Expenditure Report. The previous TANF Financial Report and Financial Report have been combined to create the Financial Expenditure Report, allowing tribes to complete and submit the information on one form. Revisions were made to the Narrative Report Instructions and Statistical Report and Instructions to provide clear guidance for completion. These revisions are the result of input by a Federal and Tribal workgroup (“477 Workgroup”).

Consultation Session

A consultation session with tribal leaders will be held on Thursday, March 14, 2014 from 1:00 to 5:00 p.m. at the Westin Washington City Center, 1400 M Street NW., Washington, DC 20005. Copies of the draft forms can be viewed at: http://www.bia.gov/WhoWeAre/AS-IA/Consultation/index.htm.

II. Request for Comments

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0135.

Title: Reporting System for Public Law 102-477 Demonstration Project.

Brief Description of Collection: Public Law 102-477 authorized tribal governments to integrate federally-funded employment, training and related services programs into a single, coordinated, comprehensive delivery plan. Interior has made available a single universal format for Statistical Reports for tribal governments to report on integrated activities undertaken within their projects, and a single universal format for Financial Reports for tribal governments to report on all project expenditures.

Type of Review: Revision of currently approved collection.

Respondents: Indian tribes participating in Public Law 102-477.

Number of Respondents: 62 on average.

Number of Responses: 62 on average.

Frequency of Response: Each respondent must supply the information for the Financial Status Report and Public Law 102-477 Demonstration Project Statistical Report once.

Estimated Time per Response: Ranges from 2 to 40 hours.

Estimated Total Annual Hour Burden: 3,628 hours.

Estimated Total Non-Hour Dollar Cost: $310.

Dated: February 10, 2014.
John Ashley,
Acting Assistant Director for Information Resources.

[FR Doc. 2014-03340 Filed 2-13-14; 8:45 am]

BILLING CODE 4310-G1-P